NUCLEAR REGULATORY COMMISSION

[Docket Nos. 50-237 and 50-249]

Exelon Generation Company, LLC, (Dresden Nuclear Station Units 2 and 3); Exemption

I

Exelon Generation Company, LLC, (Exelon) is the holder of Facility Operating License Nos. DPR-19 and DPR-25, which authorizes operation of the Dresden Nuclear Power Station, Units 2 and 3 (Dresden), at steady state core power levels not to exceed 2957 megawatts thermal per unit. Dresden's two boiling water reactors are located in Morris, Illinois. The licenses provide, among other things, that Dresden is subject to all rules, regulations, and orders of the Commission now or hereafter in effect.

II

Pursuant to 10 CFR 55.59(c), a facility's licensed operator requalification program must be conducted for a continuous period not to exceed two years (24 months) and upon conclusion must be promptly followed, pursuant to a continuous schedule, by successive requalification programs. Each two-year requalification program must include a comprehensive written examination and annual operating tests.

III

By letter dated July 2, 2002, as supplemented by letter dated July 8, 2002, Exelon requested a one-time exemption from the requirements of 10 CFR 55.59(c). Specifically, for Dresden, Exelon has requested a one-time extension to August 2, 2002, for completing the comprehensive written examination for the February 2000 through January 2002 licensed operator requalification program. This requested exemption would allow an extension of approximately 6 months beyond the 24-month limit for completion of the written examinations as required by of 10 CFR 55.59(c). Exelon's letters constitute a request for exemption under 10 CFR 55.11 which states: “The Commission may, upon application by an interested person, or upon its own initiative, grant such exemptions from the requirements of the regulations in this part as it determines are authorized by law and will not endanger life or property and are otherwise in the public interest.” The exemption is being requested due to circumstances which led Dresden to inadvertently schedule the comprehensive requalification written examinations at an interval greater than the required 24 months.

IV

The Commission has determined that, pursuant to 10 CFR 55.11, granting an exemption to Exelon from the requirements in 10 CFR 55.59(c), by allowing Dresden a one-time extension of the two-year requirement to conduct a comprehensive requalification written examination, is authorized by law and will not endanger life or property and is otherwise in the public interest. Although the 24-month requirement at Dresden for conducting a comprehensive written examination was exceeded, operator performance continues to be satisfactory, as demonstrated both in the plant and during other written examinations, operating tests, and periodic simulator evaluations. Granting this exemption will allow the makeup of the Dresden operating crews to remain unchanged, thereby maintaining effective crew teamwork, which will contribute to continued safe plant operations.

Accordingly, the Commission hereby grants Exelon an exemption on a one-time only basis from the two-year requirement of 10 CFR 55.59(c) for conducting a comprehensive licensed operator requalification written examination at Dresden by granting an extension of the examination completion date to August 2, 2002. The NRC understands that, following the completion of that examination, the next comprehensive licensed operator requalification written examination at Dresden will be administered at the completion of the current 24-month requalification period (i.e., examination administered in January/February 2004), and will include a comprehensive sampling of licensed operator requalification training topics contained in the current (February 2002-January 2004) 24-month requalification period.

Pursuant to 10 CFR 51.32, the Commission has determined that the granting of this exemption will not have a significant effect on the quality of the human environment (67 FR 46218)

This exemption is effective upon issuance. This exemption expires on August 2, 2002.

Dated at Rockville, Maryland this 12th day of July, 2002.
For the Nuclear Regulatory Commission.
Bruce A. Boger,
Director, Division of Inspection Program Management, Office of Nuclear Reactor Regulation.

[FR Doc. 02-18154 Filed 7-17-02; 8:45 am]

BILLING CODE 7590-01-P